NATIONAL FOUNDATION ON THE ARTS AND THE HUMANITIES

National Endowment for the Arts; Arts Advisory Panel

Pursuant to Section 10(a)(2) of the Federal Advisory Committee Act (Pub. L. 92-463), as amended, notice is hereby given that six meetings of the Arts Advisory Panel to the National Council on the Arts will be held at the Nancy Hanks Center, 1100 Pennsylvania Avenue, NW., Washington, DC 20506 as follows (ending times are approximate):

National Initiatives (application review) September 4, 2007 by teleconference from Room 722. This meeting, from 2 p.m. to 5:30 p.m., will be closed.

Theatre (application review): September 5, 2007 by teleconference from Room 720. This meeting, from 2 p.m. to 3 p.m., will be closed.

Literature (application review): September 5-7, 2007 in Room 716. A portion of this meeting, from 12 p.m. to 1 p.m. on September 7th, will be open to the public for a policy discussion. The remainder of the meeting, from 9 a.m. to 6:30 p.m. on September 7th-8th, and from 9 a.m. to 12 p.m. and 1 p.m. to 4 p.m. on September 9th, will be closed.

Arts Education (application review): September 18-19, 2007 in Room 716. A portion of this meeting, from 3 p.m. to 3:45 p.m. on September 19th, will be open to the public for a policy discussion. The remainder of the meeting, from 9 a.m. to 5:30 p.m. on September 18th, and from 9 a.m. to 3 p.m. and 3:45 p.m. to 4:30 p.m. on September 19th, will be closed.

AccessAbility (application review): September 25, 2007 by teleconference from Room 724. This meeting, from 2 p.m. to 3:30 p.m., will be closed.

Arts Education (application review): September 25-28, 2007 in Room 716. A portion of this meeting, from 2:30 p.m. to 3 p.m. on September 28th, will be open to the public for a policy discussion. The remainder of the meeting, from 9 a.m. to 6 p.m. on September 25th-27th, and from 9 a.m. to 2:30 p.m. and 3 p.m. to 3:30 p.m. on September 28th, will be closed.

The closed portions of meetings are for the purpose of Panel review, discussion, evaluation, and recommendations on financial assistance under the National Foundation on the Arts and the Humanities Act of 1965, as amended, including information given in confidence to the agency. In accordance with the determination of the Chairman of February 21, 2007, these sessions will be closed to the public pursuant to subsection (c)(6) of section 552b of Title 5, United States Code.

Any person may observe meetings, or portions thereof, of advisory panels that are open to the public, and if time allows, may be permitted to participate in the panel's discussions at the discretion of the panel chairman. If you need special accommodations due to a disability, please contact the Office of AccessAbility, National Endowment for the Arts, 1100 Pennsylvania Avenue, NW., Washington, DC 20506, 202/682-5532, TDY-TDD 202/682-5496, at least seven (7) days prior to the meeting. Further information with reference to these meetings can be obtained from Ms. Kathy Plowitz-Worden, Office of Guidelines & Panel Operations, National Endowment for the Arts, Washington, DC 20506, or call 202/682-5691.

Dated: August 13, 2007.
Kathy Plowitz-Worden,
Panel Coordinator, Panel Operations, National Endowment for the Arts.

[FR Doc. E7-16178 Filed 8-16-07; 8:45 am]

BILLING CODE 7537-01-P